DEPARTMENT OF VETERANS AFFAIRS

[OMB Control No. 2900-0786 (VR&E Longitudinal Study Survey)]

Agency Information Collection (Vocational Rehabilitation and Employment Longitudinal Study Survey); Activity Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before May 16, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0786” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0786.”

SUPPLEMENTARY INFORMATION: Title: Vocational Rehabilitation and Employment Longitudinal Study Survey.

OMB Control Number: 2900-0786 (VR&E Longitudinal Study Survey).

Type of Review: Revision of a Currently Approved Collection.

Abstract: As required by Public Law 110-389 Section 334, VBA will collect survey data on individuals who began participating in the VR&E program during fiscal years 2010, 2012, and 2014. VA will conduct a study of this data to determine the long-term positive outcomes of individuals participating in VBA's VR&E program. The purpose of this study is to monitor the effectiveness of VR&E program, so that we can find ways to improve the program and increase the support VA provides to Veterans on a daily basis.

An agency may not conduct or sponsor, and a person is not required to respond to a collection of information unless it displays a currently valid OMB control number. The Federal Register Notice with a 60-day comment period soliciting comments on this collection of information was published on February 6, 2014, at pages 7281-7282.

Affected Public: Individuals and Households.

Estimated Annual Burden: 2,333 hours.

Estimated Average Burden per Respondent: 20 minutes.

Frequency of Response: Annually.

Estimated Number of Respondents: 7,000.

Dated: April 10, 2014.
By direction of the Secretary.
Crystal Rennie,
Department Clearance Officer, Department of Veterans Affairs.

[FR Doc. 2014-08548 Filed 4-15-14; 8:45 am]

BILLING CODE 8320-01-P